DEPARTMENT OF COMMERCE

International Trade Administration

[A-570-831]

Fresh Garlic From the People's Republic of China: Final Results of Antidumping Duty New Shipper Review

AGENCY: Import Administration, International Trade Administration, Department of Commerce.

ACTION: Notice of final results of antidumping duty new shipper review.

SUMMARY: On July 31, 2002, the Department of Commerce published the preliminary results of its new shipper reviews of fresh garlic from the People's Republic of China. On October 28, 2002, we published the rescission of the new shipper review of Shandong Heze International Trade and Developing Company and notice of the postponement of our final results of review for Jinan Yipin Corporation, Ltd. The period of review is November 1, 2000, through October 31, 2001. We gave interested parties an opportunity to comment on our preliminary results. Based on the comments we received from the interested parties, we have made changes in the margin calculation for Jinan Yipin Corporation, Ltd., for the final results of review. The respondent's final weighted-average dumping margin is listed below in the section entitled “Final Results of Review.”

EFFECTIVE DATE: December 4, 2002.

FOR FURTHER INFORMATION CONTACT: Jennifer Moats or Mark Ross, Import Administration, International Trade Administration, U.S. Department of Commerce, 14th Street and Constitution Avenue, NW., Washington, DC 20230; telephone: (202) 482-5047 or (202) 482-4794, respectively.

The Applicable Statute and Regulations

Unless otherwise indicated, all citations to the statute are references to the provisions effective January 1, 1995, the effective date of the amendments made to the Tariff Act of 1930 by the Uruguay Round Agreements Act. In addition, unless otherwise indicated, all citations to the Department of Commerce's (the Department's) regulations are to the provisions codified at 19 CFR part 351 (April 2001).

Background

On July 15 and 16, 2002, the Department conducted a U.S. sales verification of Jinan Yipin Corporation Ltd.’s (Jinan Yipin's) U.S. affiliate, American Yipin Produce Company (American Yipin). See Memorandum to the file titled “U.S. Market Verification of the Response of Jinan Yipin Corporation, Ltd., to the Questionnaire of the New Shipper Review (11/01/00-10/31/01) of the Antidumping Duty Order on Fresh Garlic from the People's Republic of China,” dated October 11, 2002.

We published in the Federal Register the preliminary results of the new shipper review on July 31, 2002. See Fresh Garlic from the People's Republic of China: Preliminary Results of Antidumping Duty New Shipper Review and Intent to Rescind in Part, 67 FR 49669 (July 31, 2002) (Preliminary Results).

On August 14, 2002, the Department toured fresh garlic production operations in Coalinga, California. See Memorandum to the file titled “Tour of U.S. Production Operations,” dated September 10, 2002.

On August 20, 2002, the petitioners and the respondent submitted additional surrogate-value data and on August 30, 2002, the petitioners submitted updated surrogate-value data.

On September 19 and 20, 2002, the Department conducted a Factors of Production (FOP) data verification of Jinan Yipin. See Memorandum to the file titled “Verification Report for Jinan Yipin Corporation, Ltd.,” dated October 16, 2002.

On October 24, 2002, the petitioners and Jinan Yipin submitted their case briefs, and on October 29, 2002, the petitioners and Jinan Yipin submitted rebuttal briefs. On November 6, 2002, we held a hearing in this review.

The Department has conducted this review in accordance with section 751 of the Act.

Scope of the Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) Garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, our written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the Customs Service to that effect.

Separate Rates

In our Preliminary Results, we found that Jinan Yipin had met the criteria for the application of a separate antidumping duty rate. We have not received any information since the Preliminary Results which would warrant reconsideration of our separate-rate determination with respect to Jinan Yipin. Therefore, we continue to find that Jinan Yipin should be assigned an individual dumping margin. For a complete discussion of the Department's determination that the respondent is entitled to a separate rate, see the Preliminary Results, 67 FR at 49669.

Analysis of Comments Received

All issues raised in the case briefs are addressed in the Issues and Decision Memorandum (Decision Memo) from Susan Kuhbach, Acting Deputy Assistant Secretary for Import Administration, to Faryar Shirzad, Assistant Secretary for Import Administration, which is hereby adopted by this notice. Parties can find a complete discussion of all issues raised in the briefs and the corresponding recommendations in this public memorandum, which is on file in the Central Records Unit, room B-099 of the main Department building. In addition, a complete version of the Decision Memo can be accessed directly on the Web at http://www.ia.ita.doc.gov/frn. The paper copy and electronic version of the Decision Memo are identical in content.

Changes Since the Preliminary Results

Based on the use of additional publicly available information and the comments we received from the interested parties, we have made changes in our calculation of the weighted-average dumping margin for Jinan Yipin.

For the final results, we calculated average surrogate percentages for factory overhead, selling, general, and administrative expenses, and profit using the 2000-2001 financial reports of Agro Dutch Foods Ltd., Flex Foods Ltd., and Himalya International Ltd. See Decision Memo at Comment 5. We also deducted a line item from the financial statements to avoid double-counting. We incorporated the pre-verification corrections as presented at the start of both the U.S. sales and factor-of-production verifications. We deducted a portion of building depreciation from the factory overhead equal to the portion of the lease agreement pertinent to bartered garlic sprouts. We valued garlic seed with information for garlic from two varieties of Indian garlic (i.e., Yamuna Safed and Agrifound Parvati). We valued electricity with information for agricultural electricity rates published by the Teri Energy Data Directory and Yearbook 1999/2000. We removed packing materials and packing labor from the calculation of direct materials. We treated water as a variable overhead expense rather than a direct material.

Verification

As provided in section 782(i) of the Act, we verified the information submitted by the respondent for use in our final results. We used standard verification procedures including examination of relevant accounting and production records, and original source documents provided by the respondent.

Final Results of Review

The weighted-average dumping margin for subject merchandise manufactured and exported by Jinan Yipin for the period November 1, 2000, through October 31, 2001 is 0.00 percent.

Assessment Rates

The Department will determine, and the Customs Service shall assess, antidumping duties on all appropriate entries. In accordance with 19 CFR 351.106(c)(2), we will instruct the Customs Service to liquidate without regard to antidumping duties all entries of subject merchandise during the POR for which the import-specific assessment rate is zero.

Cash-Deposit Requirements

Bonding is no longer permitted to fulfill security requirements for shipments from Jinan Yipin of fresh garlic from the PRC entered, or withdrawn from warehouse, for consumption on or after the publication date of these final results of new shipper review. The following cash-deposit requirements will be effective upon publication of the final results of this new shipper review for all shipments of subject merchandise entered or withdrawn from warehouse for consumption on or after the publication date as provided for by section 751(a)(2)(C) of the Act: (1) For subject merchandise manufactured (i.e., grown) and exported by Jinan Yipin, no cash deposit is required; (2) for subject merchandise exported by Jinan Yipin but not manufactured (i.e., grown) by Jinan Yipin, the cash-deposit rate will be the PRC countrywide rate; (3) for all other PRC exporters, which have not been found to be entitled to a separate rate, the cash-deposit rate will be the PRC countrywide rate, which is 376.67 percent; (4) for all non-PRC exporters of subject merchandise, the cash-deposit rate will be the rate applicable to the PRC supplier of that exporter. These deposit requirements shall remain in effect until publication of the final results of the next administrative review.

This notice serves as the only reminder to parties subject to the administrative protective order (APO) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing these results and notice in accordance with sections 751(a)(1), 751(a)(2)(B), and 777(i) of the Act and 19 CFR 351.213 and 351.214.

Dated: November 26, 2002.
Faryar Shirzad,
Assistant Secretary for Import Administration.

[FR Doc. 02-30771 Filed 12-3-02; 8:45 am]

BILLING CODE 3510-DS-P